DEPARTMENT OF HOMELAND SECURITY

Coast Guard

33 CFR Part 165

[Docket No. USCG-2013-1033]

Safety Zones; Annual Events Requiring Safety Zones in the Captain of the Port Lake Michigan Zone-Miesfeld's Lakeshore Weekend Fireworks, Sheboygan, WI

AGENCY: Coast Guard, DHS.

ACTION: Notice of enforcement of regulation.

SUMMARY: The Coast Guard will enforce the safety zone on Lake Michigan in Sheboygan, WI, for the Miesfeld's Lakeshore Weekend fireworks. This zone will be enforced from 8:30 p.m. until 9:45 p.m. on July 25, 2014. This action is necessary and intended to ensure the safety of life on navigable waters during a fireworks display.

DATES: The regulations in 33 CFR 165.929 will be enforced for safety zone (e)(49), Table 165.929, from 8:30 p.m. until 9:45 p.m. on July 25, 2014.

FOR FURTHER INFORMATION CONTACT: If you have questions on this document, call or email MST1 Joseph McCollum, Prevention Department, Coast Guard Sector Lake Michigan, Milwaukee, WI at (414) 747-7148, email joseph.p.mccollum@uscg.mil.

SUPPLEMENTARY INFORMATION:

The Coast Guard will enforce the Miesfeld's Lakeshore Weekend fireworks safety zone listed as item (e)(49) in Table 165.929 of 33 CFR 165.929. Section 165.929 lists many annual events requiring safety zones in the Captain of the Port Lake Michigan zone. The Miesfeld's Lakeshore Weekend fireworks display zone will encompass all waters of Lake Michigan and Sheboygan Harbor within an 800-foot radius from the fireworks launch site located at the south pier in approximate position 43°44′55″ N, 087°41′58″ W (NAD 83). This zone will be enforced from 8:30 p.m. until 9:45 p.m. on July 25, 2014.

All vessels must obtain permission from the Captain of the Port, Lake Michigan, or the on-scene representative to enter, move within, or exit the safety zone. Vessels and persons granted permission to enter the safety zone must obey all lawful orders or directions of the Captain of the Port, Lake Michigan, or a designated representative. Vessels that wish to transit through the safety zone may request permission from the Captain of the Port Lake Michigan. Requests must be made in advance and approved by the Captain of the Port before transits will be authorized. Approvals will be granted on a case by case basis.

This document is issued under authority of 33 CFR 165.929, Safety Zones; Annual events requiring safety zones in the Captain of the Port Lake Michigan zone and 5 U.S.C. 552(a). In addition to this publication in the Federal Register, the Coast Guard will provide the maritime community with advance notification of this event via Broadcast Notice to Mariners or Local Notice to Mariners that the regulation is in effect. The Captain of the Port, Lake Michigan, or his or her on-scene representative may be contacted via Channel 16, VHF-FM.

Dated: June 18, 2014.
A.B. Cocanour,
Captain, U.S. Coast Guard, Captain of the Port, Lake Michigan.

[FR Doc. 2014-15672 Filed 7-2-14; 8:45 am]

BILLING CODE 9110-04-P